DEPARTMENT OF HOUSING AND URBAN DEVELOPMENT

[Docket No. FR-5312-N-02]

Recovery Act—Green Retrofit Program for Multifamily Housing, Notice of Closing of Application Solicitation

AGENCY: Office of the Assistant Secretary for Housing—Federal Housing Commissioner, HUD.

ACTION: Notice.

SUMMARY: By notice issued May 13, 2009, HUD announced the availability of funding for the Green Retrofit Program for Multifamily Housing (GRP), a program authorized by the American Recovery and Reinvestment Act of 2009, for the purpose of making, primarily, loans and grants to facilitate utility-saving retrofits and other retrofits that produce environmental benefits in certain existing HUD-assisted multifamily housing. In the May 13, 2009, notice, HUD announced that it would begin soliciting applications beginning on June 15, 2009. This notice announces that, based on the funds remaining available, HUD will cease accepting applications as of November 18, 2009.

FOR FURTHER INFORMATION CONTACT: Office of Affordable Housing Preservation, Office of Housing, Department of Housing and Urban Development, 451 7th Street, SW., Room 6230, Washington, DC 20410-8000; telephone number 202-708-0001 (this is not a toll-free number). Persons with hearing or speech impairments may access this number through TTY by calling the toll-free Federal Information Relay Service at 800-877-8339.

SUPPLMENTARY INFORMATION:

I. Background

Title XII of Division A of the American Recovery and Reinvestment Act of 2009 (Pub. L. 111-5) (Recovery Act) authorizes funding for GRP, a Recovery Act program by which HUD makes loans and grants and takes a variety of other actions to facilitate utility-saving retrofits and other retrofits that produce environmental benefits, in certain existing HUD-assisted multifamily housing. The funding provided for retrofits is designed to result in property that reduces energy demand, costs less to operate, improves the residents' quality of life, and reduces its impact on the environment.

By notice issued May 13, 2009, HUD announced the availability of funding GRP. (See http://www.hud.gov/offices/adm/hudclips/notices/hsg/files/09-02HSGN.pdf). In the May 13, 2009, notice, HUD announced that GRP would be administered by the Office of Affordable Housing Preservation. In the May 13, 2009, notice, HUD also announced that it would begin accepting applications for GRP funding on June 15, 2009, on a first come, first serve basis, and would continue to accept applications subject to the availability of funding.

In this notice, HUD announces that, based on remaining GRP funds available, HUD will cease accepting applications as of November 18, 2009.

Dated: November 9, 2009.
Theodore K. Toon,
Deputy Assistant Secretary for Affordable Housing Preservation.

[FR Doc. E9-27416 Filed 11-13-09; 8:45 am]

BILLING CODE 4210-67-P